DEPARTMENT OF ENERGY

Federal Energy Regulatory Commission

[Docket No. RP03-297-001]

MIGC, Inc.; Notice of Compliance Filing

May 21, 2003.

Take notice that on May 16, 2003, MIGC, Inc. (MIGC) tendered for filing as part of its FERC Gas Tariff, First Revised Volume No.1, Substitute Original Sheet No. 90H; and Substitute Second Revised Sheet No. 66A, to become effective May 1, 2003.

MIGC states that the purpose of this filing is to comply with the Letter Order issued by FERC in the instant proceeding. On March 6, 2003, MIGC filed revised tariff sheets to implement new tariff provisions and clarify certain existing provisions. On April 30, 2003 a Letter Order was issued in this proceeding accepting the proposed tariff sheets effective May 1, 2003, subject to certain conditions discussed in the Order. The Commission directed MIGC to file necessary compliance revisions within 21 days of the date of the Order. MIGC indicates that this compliance filing includes the additional tariff revisions necessary.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 28, 2003.

Magalie R. Salas,
Secretary.

[FR Doc. 03-13297 Filed 5-28-03; 8:45 am]

BILLING CODE 6717-01-P